DEPARTMENT OF COMMERCE

International Trade Administration

[A-570-891]

Amended Final Determination of Sales at Less Than Fair Value: Hand Trucks and Certain Parts Thereof From the People's Republic of China

AGENCY: Import Administration, International Trade Administration, Department of Commerce.

ACTION: Notice of amended final determination of sales at less than fair value.

SUMMARY: On October 7, 2004, the Department of Commerce announced the final determination of the sales at less than fair value investigation for hand trucks and certain parts thereof from the People's Republic of China for the period April, 1, 2003, through September 30, 2003. These final results were published in the Federal Register on October 14, 2004.

On October 15, 2004, Qingdao Huatian Hand Truck Co., Ltd., Qingdao Taifa Group Co., Ltd., True Potential Co., Qingdao Future Tool Inc., Gleason Industrial Products, Inc., and Precision Products Inc. submitted ministerial error allegations. On October 20, 2004, the same companies submitted rebuttal comments. Based on these allegations, we made changes to the margin calculation of Qingdao Huatian Hand Truck Co., Ltd., Qingdao Taifa Group Co., Ltd., True Potential Co., Qingdao Future Tool Inc., and Shandong Machinery Import & Export Group. The final weighted-average dumping margins for these companies are listed below in the section entitled “Amended Final Determination.”

EFFECTIVE DATE: November 12, 2004.

FOR FURTHER INFORMATION CONTACT: Dan Alexy, Audrey Twyman or Stephen Cho, AD/CVD Operations, Office 1, Import Administration, International Trade Administration, U.S. Department of Commerce, 14th Street and Constitution Avenue NW, Washington, DC 20230; telephone (202) 482-1540, (202) 482-3534 and (202) 482-3798, respectively.

Background

On October 14, 2004, the Department of Commerce (the “Department”) published the final determination of this investigation. See Notice of Final Determination of Sales at Less Than Fair Value: Hand Trucks and Certain Parts Thereof from the People's Republic of China, 69 FR 60980 (“Final Determination”). The period of investigation is April, 1, 2003, through September 30, 2003.

On October 15, 2004, we received ministerial error allegations, filed pursuant to 19 CFR 351.224(c) of the Department's regulations, from Qingdao Huatian Hand Truck Co., Ltd. (“Huatian”), Qingdao Taifa Group Co., Ltd. (“Taifa”), True Potential Co. (“True Potential”), and Qingdao Future Tool Inc. (“Future Tool”) (collectively, the “respondents”), and Gleason Industrial Products, Inc., and Precision Products Inc. (collectively, the “petitioners”) regarding the Department's final margin calculation. On October 20, 2004, the petitioners and the respondents submitted rebuttal comments. All parties requested that we correct the errors and publish a notice of amended final results in the Federal Register, pursuant to 19 CFR 351.224(e).

Scope of the Investigation

For the purpose of this investigation, the product covered consists of hand trucks manufactured from any material, whether assembled or unassembled, complete or incomplete, suitable for any use, and certain parts thereof, namely the vertical frame, the handling area and the projecting edges or toe plate, and any combination thereof.

A complete or fully assembled hand truck is a hand-propelled barrow consisting of a vertically disposed frame having a handle or more than one handle at or near the upper section of the vertical frame; at least two wheels at or near the lower section of the vertical frame; and a horizontal projecting edge or edges, or toe plate, perpendicular or angled to the vertical frame, at or near the lower section of the vertical frame. The projecting edge or edges, or toe plate, slides under a load for purposes of lifting and/or moving the load.

That the vertical frame can be converted from a vertical setting to a horizontal setting, then operated in that horizontal setting as a platform, is not a basis for exclusion of the hand truck from the scope of this petition. That the vertical frame, handling area, wheels, projecting edges or other parts of the hand truck can be collapsed or folded is not a basis for exclusion of the hand truck from the scope of the petition. That other wheels may be connected to the vertical frame, handling area, projecting edges, or other parts of the hand truck, in addition to the two or more wheels located at or near the lower section of the vertical frame, is not a basis for exclusion of the hand truck from the scope of the petition. Finally, that the hand truck may exhibit physical characteristics in addition to the vertical frame, the handling area, the projecting edges or toe plate, and the two wheels at or near the lower section of the vertical frame, is not a basis for exclusion of the hand truck from the scope of the petition.

Examples of names commonly used to reference hand trucks are hand truck, convertible hand truck, appliance hand truck, cylinder hand truck, bag truck, dolly, or hand trolley. They are typically imported under heading 8716.80.50.10 of the Harmonized Tariff Schedule of the United States (“HTSUS”), although they may also be imported under heading 8716.80.50.90. Specific parts of a hand truck, namely the vertical frame, the handling area and the projecting edges or toe plate, or any combination thereof, are typically imported under heading 8716.90.50.60 of the HTSUS. Although the HTSUS subheadings are provided for convenience and customs purposes, the Department's written description of the scope is dispositive.

Excluded from the scope are small two-wheel or four-wheel utility carts specifically designed for carrying loads like personal bags or luggage in which the frame is made from telescoping tubular material measuring less than ⅝ inch in diameter; hand trucks that use motorized operations either to move the hand truck from one location to the next or to assist in the lifting of items placed on the hand truck; vertical carriers designed specifically to transport golf bags; and wheels and tires used in the manufacture of hand trucks.

Amended Final Determination

After analyzing the submissions, we have determined in accordance with section 735(e) of the Tariff Act of 1930, as amended, (“the Act”) and 19 CFR 351.224 that we made ministerial errors in the margin calculations for Huatian and Taifa. The ministerial errors include an error alleged by Huatian pertaining to the Department's deduction of international freight from certain U.S. sales of Huatian, an error alleged by the respondents in the calculation of the selling, general, and administrative expenses (“SG&A”) ratio, and two errors alleged by the petitioners, one, on the correct weight code for certain hand truck models in Taifa's margin calculation, and the other, on the proper unit of measure for bearings in Huatian's margin calculation.

Specifically:

• We inadvertently neglected to add the actual freight incurred for certain U.S. sales of Huatian.

• We inadvertently included movement expenses in the calculation of the SG&A ratio which resulted in the double-counting of these expenses.

• We inadvertently neglected to correct the error in weight code for certain hand truck models when applying facts available in Taifa's margin calculation.

• We inadvertently neglected to include the proper unit of measure for bearings when applying facts available in Huatian's margin calculation.

For a detailed discussion of the ministerial error allegations and the Department's analysis, see Memorandum from Team to Jeffrey A. May, Deputy Assistant Secretary for Import Administration, entitled “Ministerial Error Allegations,” dated November 5, 2004.

We are amending the final determination of the antidumping duty investigation of hand trucks from the People's Republic of China (“PRC”) to reflect the correction of the above-cited ministerial errors. As a result of corrections of the ministerial errors in the Final Determination, the revised final weighted-average dumping margins are as follows:

Exporter/manufacturer | Original weighted-average margin percentage | Revised weighted-average margin percentage
Qingdao Huatian Hand Truck Co., Ltd. | 45.04 | 46.48
Qingdao Taifa Group Co., Ltd. | 27.00 | 26.49
True Potential Co. | 24.90 | 33.68
Qingdao Future Tool Inc. | 30.56 | 32.76
Shandong Machinery Import & Export Group | 30.56 | 32.76
PRC-wide Rate | 386.75 | 383.60

Continuation of Suspension of Liquidation

Pursuant to section 735(c)(1)(B) of the Act, we will instruct U.S. Customs and Border Protection (“CBP”) to continue to suspend liquidation of all imports of subject merchandise from the PRC entered, or withdrawn from warehouse, for consumption on or after May 24, 2004, the date of publication of our Preliminary Determination. CBP shall continue to require a cash deposit or the posting of a bond equal to the estimated amount by which the normal value exceeds the U.S. price as revised and shown above. These instructions suspending liquidation will remain in effect until further notice.

This determination is issued and published in accordance with sections 735(d) and 777(i) of the Act.

James J. Jochum,
Assistant Secretary for Import Administration.

[FR Doc. E4-3155 Filed 11-10-04; 8:45 am]

BILLING CODE 3510-DS-P